DEPARTMENT OF HOUSING AND URBAN DEVELOPMENT

[Docket No. FR-6358-N-01]

Addressing Radon in the Environmental Review Process; Request for Comment

AGENCY: Office of the Assistant Secretary for Community Planning and Development, Department of Housing and Urban Development (HUD).

ACTION: Notice; request for comments on HUD's Draft Departmental Radon Policy.

SUMMARY: HUD has posted CPD-21-136, titled, Departmental Policy for Addressing Radon in the Environmental Review Process, on its website. HUD invites public comments from interested individuals, entities, and other parties on that Notice's proposed clarification that radon as a radioactive substance must be considered in the environmental review of proposed HUD-assisted projects.

DATES: Comments are due on or before: April 14, 2023.

ADDRESSES: Interested persons are invited to submit comments on the proposed Departmental Radon Policy. Comments may be submitted to HUD electronically. All submissions must refer to the above docket number and title.

Electronic Submission of Comments. Interested persons may submit comments electronically through the Federal eRulemaking Portal at www.regulations.gov. Electronic submission allows the maximum time to prepare and submit comments, ensures timely receipt by HUD, and enables HUD to make them immediately available to the public. Comments submitted electronically through the www.regulations.gov website can be viewed by interested members of the public. Individuals should follow the instructions provided on that website to submit comments.

FOR FURTHER INFORMATION CONTACT: Kristin L. Fontenot, Director, Office of Environment and Energy, Department of Housing and Urban Development, 451 Seventh Street SW, Room 7282, Washington, DC 20410-8000; email Kristin Fontenot at Environmentalplanningdivision@hud.gov, telephone (202) 402-7671 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

The purpose of CPD-21-136, Departmental Policy for Addressing Radon in the Environmental Review Process, (“CPD notice”) is to clarify that radon must be considered in the contamination analysis for 24 CFR parts 50 or 58; to provide guidance on recommended best practices for considering radon; and to identify the HUD programs that have established specific radon guidance. According to the EPA, radon is the leading cause of lung cancer in non-smokers and kills an estimated 21,000 Americans each year. HUD seeks to protect resident lives by considering radon as part of the contamination analysis. The policy would apply to projects that:

• Require an environmental review at the level of Categorically Excluded Subject to 50.4 or 58.5 (“CEST”), Environmental Assessment, or Environmental Impact Statement; and

• Involve structures that are occupied or are intended to be occupied at least four (4) hours a day.

The Policy would allow flexibility in how radon can be considered in the environmental review record. Radon testing and mitigation costs are eligible program activities for HUD programs and can be financed with most program funds. HUD's contamination policy does not apply to projects that are Categorically Excluded Not Subject to 24 CFR 50.4 or 58.5 (“CENST”) or Exempt (24 CFR 58.34), unless specifically required by HUD program office requirements.

II. Request for Public Comment

HUD invites the public to review the CPD notice at the following link: https://www.hud.gov/program_offices/comm_planning/environment_energy/notices. HUD is interested in any comments you have regarding the proposed departmental radon policy and is specifically interested in:

• What concerns do you have about implementation of the proposed radon policy?

• What specific guidance would a HUD grantee or interested member of the public need to successfully identify and mitigate radon?

HUD will review comments received and will consider rulemaking or other administrative actions to establish radon testing and mitigation requirements for HUD-assisted projects.

Kristin L. Fontenot,
Director of the Office of Environment and Energy.

[FR Doc. 2023-03004 Filed 2-10-23; 8:45 am]

BILLING CODE 4210-67-P